GENERAL SERVICES ADMINISTRATION

[OMB Control No. 3090-XXXX; Docket No. 2025-0001; Sequence No. 2]

Information Collection; Student Loan Repayment Application and Service Agreement (GSA Form 5015)

AGENCY: Office of Human Resource Management, Strategic Planning, Policy, and Training Division, General Services Administration (GSA).

ACTION: Notice; request for comments.

SUMMARY: Under the provisions of the Paperwork Reduction Act, the Regulatory Secretariat Division will be submitting to the Office of Management and Budget (OMB) a request to review and approve a new information collection requirement.

DATES: Submit comments on or before March 10, 2025.

ADDRESSES: Submit comments identified by Information Collection 3090-XXXX; “Student Loan Repayment Application and Service Agreement (GSA Form 5015)” to: http://www.regulations.gov. Submit comments via the Federal eRulemaking portal by searching for “Information Collection 3090-XXXX; “Student Loan Repayment Application and Service Agreement (GSA Form 5015).” Select the link “Submit a Comment” that corresponds with “Information Collection 3090-XXXX; Student Loan Repayment Application and Service Agreement (GSA Form 5015).” Follow the instructions provided at the “Submit a Comment” screen. Please include your name, company name (if any), and “Information Collection 3090-XXXX; Student Loan Repayment Application and Service Agreement (GSA Form 5015)” on your attached document. If your comment cannot be submitted using https://www.regulations.gov, call or email the points of contact in the FOR FURTHER INFORMATION CONTACT section of this document for alternate instructions.

Instructions: Please submit comments only and cite “Information Collection 3090-XXXX; Student Loan Repayment Application and Service Agreement (GSA Form 5015),” in all correspondence related to this collection. Comments received generally will be posted without change to http://www.regulations.gov, including any personal and/or business confidential information provided. To confirm receipt of your comment(s), please check www.regulations.gov, approximately two-to-three days after submission to verify posting.

FOR FURTHER INFORMATION CONTACT: Colin C. Bennett, Human Resources Specialist, Office of Human Resources Management, Strategic Planning, Policy, and Training Division, at telephone 240-418-6822 or via email to colin.bennett@gsa.gov for clarification of content.

SUPPLEMENTARY INFORMATION:

A. Purpose

Federal civil service personnel law, codified at 5 U.S.C. 5379, allows Federal agencies to use appropriated funds, revenue funds, or revolving funds, to pay for all or part of student loan debts incurred by job candidates or existing agency employees. By law, each candidate or employee is limited to a benefit of $10,000 per calendar year and a lifetime limit of $60,000 (at any agency or combination of Federal agencies). This benefit is paid by the Federal agency directly to the financial institution, and not to the job candidate or employee. When paid by an agency to the lender, these benefits are considered taxable wages and are subject to income tax withholding and Social Security and Medicare payroll taxes.

There are many eligibility requirements that must be met before agencies can transfer funds to a candidate's or employee's lender. First, the student loans must be made, insured, or guaranteed under parts B, D or E of title IV of the Higher Education Act of 1965 (20 U.S.C. 1071 et seq.). Normally these loans are part of the U.S. Department of Education's William D. Ford Federal Direct Loan Program. Direct Subsidized Loans, Direct Unsubsidized Loans, Direct PLUS Loans, and Direct Consolidation Loans are all common types of Direct Loans.

Only certain types of Federal appointments are eligible. Non-career temporary appointments limited to 1 year or less are not eligible. Non-career term appointments of less than 3 years are also excluded. “Schedule C” political appointments in the Title 5 excepted service are also not eligible. All candidates or employees who are eligible, and who receive benefits, must sign a service agreement to remain with the Federal Government (sometimes with the specific agency) for a period no less than 3 years. In practice, if payments are made annually over the course of multiple years, the service agreement length can last as long as 6 years under this recruitment and retention bonus authority.

To ensure that Federal funds are only used in an appropriate and strategic manner, the Office of Personnel Management (OPM) has promulgated civil services implementing regulations, found at 5 CFR part 537. These regulations stipulate that this authority is available to job candidates, who are not currently part of the Federal civil service, when the candidates are highly-qualified and the agency otherwise would encounter difficulty in filling the positions with highly qualified individuals. This authority is also available to facilitate the retention of agency employees when those employees would otherwise be likely to leave the Federal service agency for outside employment. In the retention context, agencies must determine that it is essential to retain the employees based upon their high or unique qualifications or a special agency need.

GSA, like many Federal agencies, has administrative approval controls to make sure that funds are only used for the most appropriate recruitment or retention cases. At GSA, the administrative approval process is currently very cumbersome and laborious because it requires a custom-written memorandum by a “Requesting Official” (i.e., the selecting official or employee's supervisor), routed through a senior “Reviewing Official” for budgetary approval, and then finally routed through three different divisions within the Office of Human Resources and then one additional office in the office of the Chief Financial Officer. Because each memorandum is custom-written, the agency is only able to transactionally process a very small number of requests each year (i.e., typically 1 to 7 requests annually, across an agency of nearly 13,000 employees).

In an effort to improve Government efficiency, GSA proposes to standardize and streamline its agency process for this personnel authority by creating a new agency form, GSA Form 5015, “Student Loan Repayment Application and Service Agreement.” The purpose of this form will be to collect together, in one place, information necessary to determine a job candidate's or employee's eligibility. The information collected will include the type of loan, the name and address of the lender, and a justification statement summarizing the candidate's or employee's knowledge, skills and abilities that support a “highly-qualified” designation. The proposed form also will contain standard signature blocks for all 6 agency signatures that are required for transactional processing. The agency's current processing procedures are contained within the public administrative Order 9537.1B, “Student Loan Repayment Plan,” found at http://www.gsa.gov/. The proposed form also contains the Service Agreement itself, so that all signatures and binding terms and conditions of the agreement are centralized into one location.

Public notice for GSA Form 5015 is sought because non-Federal job candidates may partially complete certain selections of the form, to aid the selecting official who is responsible for the vacancy announcement. For student loan repayment applications that are approved and processed, the GSA Form 5015 will be placed into the future or existing employee's Official Personnel File (OPF) as an agency temporary document, in accordance with the OPM Guide to Personnel Recordkeeping (available at http://www.opm.gov).

B. Annual Reporting Burden

Respondents: 25 per year.

Responses Per Respondent: 1.

Total Annual Responses: 25.

Hours per Response: 8.

Total Burden Hours: 200.

C. Public Comments

Public comments are solicited to help GSA understand whether or not creating the proposed new GSA Form 5015 will help to streamline the current consideration and approval process as well as save labor hours in the creation of requests and their subsequent approval and administrative routing. The agency would also like to know: (a) whether this collection of information is necessary, (b) whether it will have practical utility, (c) whether our estimate of the public burden of this collection of information is accurate (and based on valid assumptions and methodology), (d) whether or not there are ways to enhance the new form's utility and clarity of the information to be collected, and (e) whether or not there might be ways in to minimize the data collection burden through the use of information technology.

Obtaining Copies of Proposals: We have provided a copy of the proposed draft GSA Form 5015 at the end of this notice below the signature block. A copy of the proposed draft form can alternatively be obtained through GSA's Regulatory Secretariat Division by calling (202) 501-4755 or emailing GSARegSec@gsa.gov. Please cite OMB Control No. 3090-XXXX, Student Loan Repayment Application and Service Agreement (GSA Form 5015), in all correspondence.

Lois Mandell,
Director, Regulatory Secretariat Division, General Services Administration.

[FR Doc. 2024-31659 Filed 1-7-25; 8:45 am]

BILLING CODE 6820-FM-P